DEPARTMENT OF TRANSPORTATION

Federal Aviation Administration

14 CFR Part 39

[Docket No. FAA-2015-0415; Directorate Identifier 2015-CE-001-AD; Amendment 39-18152; AD 2015-09-06]

RIN 2120-AA64

Airworthiness Directives; GROB-WERKE Airplanes

AGENCY: Federal Aviation Administration (FAA), Department of Transportation (DOT).

ACTION: Final rule.

SUMMARY: We are superseding Airworthiness Directive (AD) 2014-26-04 for certain GROB-WERKE Models G115EG and G120A airplanes. This AD results from mandatory continuing airworthiness information (MCAI) issued by an aviation authority of another country to identify and correct an unsafe condition on an aviation product. The MCAI describes the unsafe condition as a defective starter solenoid. We are issuing this AD to require actions to address the unsafe condition on these products.

DATES: This AD is effective June 16, 2015.

The Director of the Federal Register approved the incorporation by reference of certain publications listed in the AD as of June 16, 2015.

The Director of the Federal Register approved the incorporation by reference of certain other publications listed in this AD as of February 9, 2015 (80 FR 155, January 5, 2015).

ADDRESSES: You may examine the AD docket on the Internet at http://www.regulations.gov by searching for and locating Docket No. FAA-2015-0415; or in person at the Docket Management Facility, U.S. Department of Transportation, Docket Operations, M-30, West Building Ground Floor, Room W12-140, 1200 New Jersey Avenue SE., Washington, DC 20590.

For service information identified in this AD, contact Grob Aircraft AG, Customer Service, Lettenbachstrasse 9, D-86874 Tussenhausen-Mattsies, Germany, telephone: + 49 (0) 8268-998-105; fax: + 49 (0) 8268-998-200; email: productsupport@grob-aircraft.com; Internet: grob-aircraft.com. You may view this referenced service information at the FAA, Small Airplane Directorate, 901 Locust, Kansas City, Missouri 64106. For information on the availability of this material at the FAA, call (816) 329-4148. It is also available on the Internet at http://www.regulations.gov by searching for and locating Docket No. FAA-2015-0415.

FOR FURTHER INFORMATION CONTACT: Karl Schletzbaum, Aerospace Engineer, FAA, Small Airplane Directorate, 901 Locust, Room 301, Kansas City, Missouri 64106; telephone: (816) 329-4123; fax: (816) 329-4090; email: karl.schletzbaum@faa.gov.

SUPPLEMENTARY INFORMATION:

Discussion

We issued a notice of proposed rulemaking (NPRM) to amend 14 CFR part 39 to add an AD that would apply to certain GROB-WERKE Models G115EG and G120A airplanes. That NPRM was published in the Federal Register on February 26, 2015 (80 FR 10423), and proposed to supersede AD 2014-26-04, Amendment 39-18055 (80 FR 155, January 5, 2015).

The NPRM proposed to correct an unsafe condition for the specified products and was based on mandatory continuing airworthiness information (MCAI) originated by an aviation authority of another country. The MCAI states:

An operator of a G 115E aeroplane experienced a total loss of electrical power in flight. The investigation found that a defective starter solenoid had caused an internal short circuit which resulted in breakdown of the system voltage.

This condition, if not detected and corrected, could result in reduced control of the aeroplane.

To address this potential unsafe condition, GROB Aircraft AG issued Mandatory Service Bulletin (MSB) MSB1078-196 for G 115 aeroplanes and MSB 1121-144 for G 120 aeroplanes to provide instructions for inspection and corrective action. Consequently, EASA issued AD 2014-0212 to require a one-time inspection of the starter solenoid and, depending on findings, replacement of the starter. In addition, for G 115E aeroplanes, installation of a placard was required.

More recently, GROB Aircraft AG developed a modification to avoid loss of electrical power in case of electrical shortage in the starter solenoid, which was published in revised GROB MSB1078-196/1 and MSB1121-144/1.

Prompted by this development, EASA issued AD 2015-0010, retaining the requirements of EASA AD 2014-0212, which was superseded, and required installation of a starter relay.

Since that AD was issued, operator comments have indicated the existence of a logistical problem, resulting in the unnecessary grounding of aeroplanes.

For the reason described above, this AD is revised to amend paragraph (3), extending the compliance time for modification.

You may examine the MCAI on the Internet at http://www.regulations.gov/#!documentDetail;D=FAA-2015-0415-0002.

Comments

We gave the public the opportunity to participate in developing this AD. We received no comments on the NPRM (80 FR 10423, February 26, 2015) or on the determination of the cost to the public.

Conclusion

We reviewed the relevant data and determined that air safety and the public interest require adopting the AD as proposed except for minor editorial changes. We have determined that these minor changes:

• Are consistent with the intent that was proposed in the NPRM (80 FR 10423, February 26, 2015) for correcting the unsafe condition; and

• Do not add any additional burden upon the public than was already proposed in the NPRM (80 FR 10423, February 26, 2015).

Relevant Service Information Under 1 CFR Part 51

We reviewed GROB Aircraft Service Bulletin No. MSB1078-196, dated July 14, 2014; GROB Aircraft Service Bulletin No. MSB1078-196/1, dated December 1, 2014; GROB Aircraft Service Bulletin No. MSB1121-144, dated July 14, 2014; and GROB Aircraft Service Bulletin No. MSB1121-144/3, dated February 20, 2015. The service information describes procedures for inspecting the starter solenoid, replacing damaged starters, and installing a starter relay. This information is reasonably available at http://www.regulations.gov by searching for and locating Docket No. FAA-2015-0415, or you may see ADDRESSES for other ways to access this service information.

Costs of Compliance

We estimate that this AD will affect 6 products of U.S. registry. We also estimate that it will take about 4 work-hours per product to comply with the basic starter inspection requirement of this AD. The average labor rate is $85 per work-hour.

Based on these figures, we estimate the cost of this inspection on U.S. operators to be $2,040, or $340 per product.

In addition, we estimate that any necessary starter replacements will take about 4 work-hours and require parts costing $600, for a cost of $940 per product. We have no way of determining the number of products that may need this replacement.

We also estimate that it will take about 20 work-hours per product to comply with the starter relay installation requirement of this AD. The average labor rate is $85 per work-hour. Required parts would cost about $1,000 per product.

Based on these figures, we estimate the cost of this proposed installation on U.S. operators to be $16,200, or $2,700 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2015-0415; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-18055 (80 FR 155, January 5, 2015) and adding the following new AD:

2015-09-06 GROB-WERKE: Amendment 39-18152; Docket No. FAA-2015-0415; Directorate Identifier 2015-CE-001-AD.

(a) Effective Date

This airworthiness directive (AD) becomes effective June 16, 2015.

(b) Affected ADs

This AD supersedes AD 2014-26-04, Amendment 39-18055 (80 FR 155, January 5, 2015) (“AD 2014-26-04”).

(c) Applicability

This AD applies to GROB-WERKE Model G115EG airplanes, all serial numbers through 82323/E, and Model G120A airplanes, all serial numbers through 85063, certificated in any category.

(d) Subject

Air Transport Association of America (ATA) Code 80: Starting.

(e) Reason

This AD was prompted by mandatory continuing airworthiness information (MCAI) originated by an aviation authority of another country to identify and correct an unsafe condition on an aviation product. The MCAI describes the unsafe condition as a defective starter solenoid. We are issuing this AD to detect and correct defective starter solenoids, which could cause an internal short circuit and could result in reduced control. We are superseding AD 2014-26-04, Amendment 39-18055 (80 FR 155, January 5, 2015), requiring installation of a starter relay that will prevent loss of electrical power in case of electrical shortage in the starter solenoid.

(f) Actions and Compliance

Unless already done, do the actions in paragraphs (f)(1) through (f)(3) of this AD:

(1) Within the next 30 days after February 9, 2015 (the effective date retained from AD 2014-26-04), inspect the starter following Part A of the Accomplishment Instructions in GROB Aircraft Service Bulletin No. MSB1078-196, dated July 14, 2014; GROB Aircraft Service Bulletin No. MSB1078-196/1, dated December 1, 2014; GROB Aircraft Service Bulletin No. MSB1121-144, dated July 14, 2014; or GROB Aircraft Service Bulletin No. MSB1121-144/3, dated February 20, 2015, as applicable.

(2) If any damage is found on the starter during the inspection required in paragraph (f)(1) of this AD, before further flight, replace the starter with a serviceable part. Do the replacement following Part A of the Accomplishment Instructions in GROB Aircraft Service Bulletin No. MSB1078-196, dated July 14, 2014; GROB Aircraft Service Bulletin No. MSB1078-196/1, dated December 1, 2014; GROB Aircraft Service Bulletin No. MSB1121-144, dated July 14, 2014; or GROB Aircraft Service Bulletin No. MSB1121-144/3, dated February 20, 2015, as applicable.

(3) Within the next 100 hours time-in-service after June 16, 2015 (the effective date of this AD), install a starter relay following Part B of the Accomplishment Instructions in GROB Aircraft Service Bulletin No. MSB1078-196/1, dated December 1, 2014, or GROB Aircraft Service Bulletin No. MSB1121-144/3, dated February 20, 2015, as applicable.

(g) Credit for Actions Done in Accordance With Previous Service Information

Actions done before June 16, 2015 (the effective date of this AD) following the Accomplishment Instructions specified in GROB Aircraft Service Bulletin No. MSB1121-144/1, dated January 12, 2015; or GROB Aircraft Service Bulletin No. MSB1121-144/2, dated February 5, 2015, as applicable, are considered acceptable for compliance with the corresponding actions specified in paragraphs (f)(1) through (f)(2) of this AD.

(h) Other FAA AD Provisions

The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4146; fax: (816) 329-4090; email: karl.schletzbaum@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI European Aviation Safety Agency (EASA) AD No. 2015-0010R1, dated February 4, 2015, for related information. You may examine the MCAI on the Internet at http://www.regulations.gov/#!documentDetail;D=FAA-2015-0415-0002.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on June 16, 2015.

(i) GROB Aircraft Service Bulletin No. MSB1078-196/1, dated December 1, 2014.

(ii) GROB Aircraft Service Bulletin No. MSB1121-144/3, dated February 20, 2015.

(4) The following service information was approved for IBR on February 9, 2015 (80 FR 155, January 5, 2015).

(i) GROB Aircraft Service Bulletin No. MSB1078-196, dated July 14, 2014.

(ii) GROB Aircraft Service Bulletin No. MSB1121-144, dated July 14, 2014.

(5) For GROB Aircraft AG service information identified in this AD, contact Grob Aircraft AG, Customer Service, Lettenbachstrasse 9, D-86874 Tussenhausen-Mattsies, Germany, telephone: + 49 (0) 8268-998-105; fax: + 49 (0) 8268-998-200; email: productsupport@grob-aircraft.com; Internet: grob-aircraft.com.

(6) You may view this service information at the FAA, Small Airplane Directorate, 901 Locust, Kansas City, Missouri 64106. For information on the availability of this material at the FAA, call 816-329-4148. It is also available on the Internet at http://www.regulations.gov by searching for and locating Docket No. FAA-2015-0415.

(7) You may view this service information that is incorporated by reference at the National Archives and Records Administration (NARA). For information on the availability of this material at NARA, call 202-741-6030, or go to: http://www.archives.gov/federal-register/cfr/ibr-locations.html.

Issued in Kansas City, Missouri, on April 23, 2015.
Earl Lawrence,
Manager, Small Airplane Directorate, Aircraft Certification Service.

[FR Doc. 2015-10071 Filed 5-11-15; 8:45 am]

BILLING CODE 4910-13-P